DEPARTMENT OF AGRICULTURE

Forest Service

Collaborative Forest Landscape Restoration Program Advisory Committee

AGENCY: Forest Service, USDA.

ACTION: Notice of meeting.

SUMMARY: The Collaborative Forest Landscape Restoration Program (CFLRP) Advisory Committee will meet in person. The purpose of the meeting is to evaluate proposals submitted in response to the Fiscal Year 2011 CFLRP Request for Proposals and make recommendations for project selection to the Secretary of Agriculture.

DATES: The meeting will be held October 18-20, 2011, from 8 a.m. to 5 p.m. M.DT.

ADDRESSES: The meeting will be held at the Peery Hotel, located at 110 West Broadway, Salt Lake City, UT 84101. Written comments should be sent to Lauren Marshall, USDA Forest Service, Forest Management, Mailstop-1103, 1400 Independence Avenue, SW., Washington, DC 20250-1103. Comments may also be sent via e-mail to Lauren Marshall, lemarshall@fs.fed.us, or via facsimile to 202-205-1045.

All comments, including names and addresses when provided, are placed in the record and are available for public inspection and copying. The public may inspect comments received at USDA Forest Service, Forest Management, 201 14th Street, SW., Yates Building, Washington, DC. Visitors are encouraged to call ahead to 202-205-1218 to facilitate entry into the Forest Service building.

FOR FURTHER INFORMATION CONTACT: Lauren Marshall, Biological Scientist, Forest Management, 202-205-1218.

Individuals who use telecommunication devices for the deaf (TDD) may call the Federal Information Relay Service (FIRS) at 1-800-877-8339 between 8 a.m. and 8 p.m., Eastern Standard Time, Monday through Friday.

SUPPLEMENTARY INFORMATION: The meeting is open to the public. Committee discussion is limited to Forest Service staff and Committee members. However, persons who wish to bring Collaborative Forest Landscape Restoration Program matters to the attention of the Committee may file written statements with the Committee staff before or after the meeting. Time for public input will be provided, during which individuals will have the opportunity to address the Committee.

Dated: September 29, 2011.
James W. Pena,
Associate Deputy Chief, National Forest System.

[FR Doc. 2011-25703 Filed 10-4-11; 8:45 am]

BILLING CODE 3410-11-P